DEPARTMENT OF COMMERCE

International Trade Administration

Initiation of Antidumping and Countervailing Duty Administrative Reviews and Requests for Revocation in Part

AGENCY: Import Administration, International Trade Administration, Department of Commerce.

SUMMARY: The Department of Commerce (“the Department”) has received requests to conduct administrative reviews of various antidumping and countervailing duty orders and findings with December anniversary dates. In accordance with the Department's regulations, we are initiating those administrative reviews. The Department also received requests to revoke two antidumping duty orders in part.

DATES: Effective Date: January 31, 2012.

FOR FURTHER INFORMATION CONTACT: Brenda Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with December anniversary dates. The Department also received a timely request to revoke in part the antidumping duty orders on certain cased pencils from the People's Republic of China for two exporters, and on honey from Argentina with respect to four exporters.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than December 31, 2012.

| Period to be reviewed
Antidumping Duty Proceedings
Argentina: Honey A-357-812 | 12/1/10—11/30/11
AGLH S.A
Algodonera Avellaneda, S.A
Alimentos Naturales-Natural Foods Lavalle
Alma Pura S.A
Apicola Danangie
Apidouro Comercial Exportadora E Importadora Ltda
Bomare S.A
Compania Apicola Argentina S.A
Compania Inversora Platense S.A
D'Ambros Maria de los Angeles y D'Ambros Maria Daniela SH
El Mana S.A
Geomiel S.A
HoneyMax S.A
Industrial Haedo S.A
Interrupcion S.A
Mielar S.A
Miel Ceta SRL
Nexco, S.A
Patagonik SA
Productos Afer S.A
Seabird Argentina S.A
TransHoney S.A
Villamora S.A
India: Certain Hot-Rolled Carbon Steel Flat Products A-533-820 | 12/1/10—11/30/11
Essar Steel Limited (Essar Steel Ltd.)
Ispat Industries, Ltd
JSW Steel Limited (JSW Steel Ltd.)
Tata Steel Limited (Tata Steel Ltd.)
Japan: Welded Large Diameter Line Pipe A-588-857 | 12/1/10—11/30/11
JFE Steel Corporation
Nippon Steel Corporation
Sumitomo Corporation
Sumitomo Metal Industries, Ltd
Sumitomo Metals Pipe & Tube Company
The People's Republic of China: Certain Cased Pencils ³A-570-827 | 12/1/10—11/30/11
Beijing Fila Dixon Stationery Company, Ltd. a/k/a Beijing Dixon Ticonderoga Stationery Company, Ltd. a/k/a Beijing Dixon Stationery Company, Ltd. and Dixon Ticonderoga Company (collectively, “Dixon”)
China First Pencil Co., Ltd. (“China First”)
Orient International Holding Shanghai Foreign Trade Co., Ltd. (“SFTC”)
Shandong Rongxin Import & Export Co., Ltd
The People's Republic of China: Hand Trucks and Parts Thereof ⁴A-570-891 | 12/1/10—11/30/11
New-Tec Integration (Xiamen) Co., Ltd
Yangjiang Shunhe Industrial Co., Ltd
Yangjiang Shunhe Industrial & Trade Co., Ltd
WelCom Products Inc
Yuhuan Tonsheng Industry Company
The People's Republic of China: Honey ⁵A-570-863 | 12/1/10—11/30/11
Ahcof Industrial Development Corp., Ltd
Alfred L. Wolff (Beijing) Co., Ltd
Anhui Changhao Import & Export Trading
Anhui Honghui Foodstuff (Group) Co., Ltd
Anhui Honghui Import & Export Trade Co., Ltd
Anhui Cereals Oils and Foodstuffs I/E (Group) Corporation
Anhui Hundred Health Foods Co., Ltd
Anhui Native Produce Imp & Exp Corp
APM Global Logistics (Shanghai) Co
Baiste Trading Co., Ltd
Cheng Du Wai Yuan Bee Products Co., Ltd
Chengdu Stone Dynasty Art Stone
Damco China Limited Qingdao Branch
Dongtai Peak Honey Industry Co., Ltd
Eurasia Bee's Products Co., Ltd
Feidong Foreign Trade Co., Ltd
Fresh Honey Co., Ltd. (formerly Mgl. Yun Shen)
Golden Tadco Int'l
Hangzhou Golden Harvest Health Industry Co., Ltd
Hangzhou Tienchu Miyuan Health Food Co., Ltd
Haoliluck Co., Ltd
Hengjide Healthy Products Co. Ltd
Hubei Yusun Co., Ltd
Inner Mongolia Altin Bee-Keeping
Inner Mongolia Youth Trade Development Co., Ltd
Jiangsu Cereals, Oils Foodstuffs Import Export (Group) Corp
Jiangsu Kanghong Natural Healthfoods Co., Ltd
Jiangsu Light Industry Products Imp & Exp (Group) Corp
Jilin Province Juhui Import
Maersk Logistics (China) Company Ltd
Nefelon Limited Company
Ningbo Shengye Electric Appliance
Ningbo Shunkang Health Food Co., Ltd
Ningxia Yuehai Trading Co., Ltd
Product Source Marketing Ltd
Qingdao Aolan Trade Co., Ltd
QHD Sanhai Honey Co., Ltd
Qinhuangdao Municipal Dafeng Industrial Co., Ltd
Renaissance India Mannite
Shaanxi Youthsun Co., Ltd
Shanghai Bloom International Trading Co., Ltd
Shanghai Foreign Trade Co., Ltd
Shanghai Hui Ai Mal Tose Co., Ltd
Shanghai Luyuan Import & Export
Shanghai Taiside Trading Co., Ltd
Shine Bal Co., Ltd
Sichuan-Dujiangyan Dubao Bee Industrial Co., Ltd
Sichuan Hasten Imp Exp. Trading Co. Ltd
Silverstream International Co., Ltd
Sunnice Honey
Suzhou Aiyi IE Trading Co., Ltd
Suzhou Shanding Honey Product Co., Ltd
Tianjin Eulia Honey Co., Ltd
Tianjin Weigeda Trading Co., Ltd
Wanxi Haohua Food Co., Ltd
Wuhan Bee Healthy Co., Ltd
Wuhan Shino-Food Trade Co., Ltd
Wuhu Anjie Food Co., Ltd
Wuhu Deli Foods Co. Ltd
Wuhu Fenglian Co., Ltd
Wuhu Qinshi Tangye
Wuhu Xinrui Bee-Product Co., Ltd
Xinjiang Jinhui Food Co., Ltd
Youngster International Trading Co., Ltd
Zhejiang Willing Foreign Trading Co
Countervailing Duty Proceedings
Argentina: Honey ⁶C-357-813 | 1/1/11—12/31/11
Suspension Agreements
None

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

³ If one of the above named companies does not qualify for a separate rate, all other exporters of Certain Cased Pencils from the PRC who have not qualified for a separate rate are deemed to be covered by this review as part of the single PRC entity of which the named exporters are a part.

⁴ If one of the above named companies does not qualify for a separate rate, all other exporters of Hand Trucks and Parts Thereof from the PRC who have not qualified for a separate rate are deemed to be covered by this review as part of the single PRC entity of which the named exporters are a part.

⁵ If one of the above named companies does not qualify for a separate rate, all other exporters of Honey from the PRC who have not qualified for a separate rate are deemed to be covered by this review as part of the single PRC entity of which the named exporters are a part.

⁶ In accordance with 19 CFR 351.213(b), the petitioners requested an administrative review of this countervailing duty order. No individual exporters requested the review pursuant to 19 CFR 351.213(b). The Department conducted the investigation and subsequent administrative reviews of this order on an aggregate basis pursuant to section 777A(e)(2)(B) of the Act. Accordingly, the Department intends to conduct the review of this order on an aggregate basis.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)) and 19 CFR 351.221(c)(1)(i).

Dated: January 24, 2012.
Christian Marsh,
Deputy Assistant Secretary for Antidumping and Countervailing Duty Operations.

[FR Doc. 2012-2086 Filed 1-30-12; 8:45 am]

BILLING CODE 3510-DS-P